SMALL BUSINESS ADMINISTRATION

Data Collection Available for Public Comments

ACTION: 60-day notice and request for comments.

SUMMARY: The Small Business Administration (SBA) intends to request approval, from the Office of Management and Budget (OMB) for the new collection of information described below. The Paperwork Reduction Act (PRA) of 1995, 44 U.S.C. Chapter 35, required federal agencies to publish a notice in the Federal Register concerning each proposed collection of information before submission to OMB, and to allow 60 days for public comment in response to the notice. This notice complies with that requirement.

DATES: Submit comments on or before July 20, 2015.

ADDRESSES: Send all comments to Melinda Edwards, Program Analyst, Office of Business Development, Small Business Administration, 409 3rd Street, 8th Floor, Washington, DC 20416.

FOR FURTHER INFORMATION CONTACT: Melinda Edwards, Program Analyst, Office of Business Development, Melinda.Edwards@sba.gov, 202-619-1843, or Curtis B. Rich, Management Analyst, 202-205-7030, Curtis.Rich@sba.gov.

SUPPLEMENTARY INFORMATION: In accordance with 13 CFR 124.604, as part of its annual review submission, each Participant owned by a Tribe, ANC, NHO or CDC must submit to SBA information showing how they have provided benefits to their members and communities. This data includes information relating to funded cultural programs, employment assistance, jobs, scholarships, internships, subsistence activities, and other services provided.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: 8(a) Participant Benefits Report.

Description of Respondents: 8(a) Program Participants—Entity Owned (Indian Tribe, Alaskan Native Corporations, Native Hawaiian Organizations, and Community Development Corporations).

Form Number: N/A.

Total Estimated Annual Responses: 329.

Total Estimated Annual Hour Burden: 165.

Curtis B. Rich,
Management Analyst.

[FR Doc. 2015-12166 Filed 5-19-15; 8:45 am]

BILLING CODE 8025-01-P